GENERAL SERVICES ADMINISTRATION

[Notice-MR-2019-01; Docket No. 2019-0002; Sequence No. 35]

Modernizing Services for Regulation Management

AGENCY: Office Regulation Management, Office of Government-wide Policy (OGP), General Services Administration (GSA).

ACTION: Notice of public meetings and request for comment.

SUMMARY: GSA is seeking public comment on any matters related to the modernization of Electronic Rulemaking Management. Background information on specific topics will be provided in electronic format through the regulations.gov docketing system to help inform the public on known issues around which to focus their input. Comments will also be accepted electronically.

To further inform the public on issues affecting the future of Electronic Rulemaking Management, GSA is hosting two town-hall style public meetings. In addition to inviting members of the public to attend these meetings, GSA is seeking subject matter experts who would be interested in participating in one or more panels at these meetings. Further Information regarding the public meetings, the process for requesting to present, and the comment process may be found under the heading SUPPLEMENTARY INFORMATION.

DATES: The public meetings will be conducted on January 30 and March 25, 2020. Both meetings will be held from 2:00 p.m., to 4:00 p.m., Eastern Time (ET).

Subject matter experts interested in serving on a panel at one or more public meetings must submit their proposed topics and qualifications/experience, in the form of a resume, for the relevant subject area no later than the following dates:

For the meeting on January 30, 2020, proposals are due midnight January 10, 2020.

For the meeting on March 25, 2020, proposals are due midnight March 2, 2020.

Comments related to any aspect of modernization of Electronic Rulemaking Management must be submitted no later than April 30, 2020.

ADDRESSES: All public meetings will take place at GSA's Central Office at 1800 F Street NW, Washington, DC 20006.

Submit proposals to present by emailing eRulemaking@gsa.gov.

Pre-register to attend the January 30, 2020, public meeting at https://regulationsmanagement.eventbrite.com.

Pre-register to attend the March 25, 2020, public meeting at https://regulationsmanagement2.eventbrite.com.

Submit comments in response to Notice-MR-2019-01 using Docket No. 2019-0002; Sequence No. 35, on regulations.gov (http://www.regulations.gov).

FOR FURTHER INFORMATION CONTACT: For further information, please contact eRulemaking@gsa.gov.

SUPPLEMENTARY INFORMATION:

Background on Electronic Rulemaking Management

GSA's Office of Regulation Management, within OGP, is interested in conducting a dialogue with the public, including industry, special interest groups, academia, researchers, and individuals about challenges and opportunities related to the modernization of the Electronic Rulemaking Management process. The dialogue begins with this public notice and request for comment.

The Office of Regulation Management manages two programs that deliver shared regulatory IT services. The eRulemaking Program manages Regulations.gov and the Federal Docket Management System (FDMS). The Regulatory Information Service Center (RISC) manages RegInfo.gov and the RISC/OIRA Consolidated Information System (ROCIS).

GSA's strategy for Rulemaking Modernization is three-fold:

1. Better integrate data and information technology among Federal regulatory information systems to support data analytics, both for rule makers and members of the public.

2. Apply innovative approaches to promote public access, accountability, and transparency.

3. Reduce duplication and increase efficiency across the Federal rulemaking landscape through improved processes and technologies.

Docket No. 2019-0002; Sequence No. 35 at Regulations.gov will contain background documents on various topics on the regulatory process within a docket.

You can discover more about the Office of Regulation Management and its regulatory work at: https://www.gsa.gov/policy-regulations/regulations/how-you-can-improve-regulations.

You can discover more about e-Rulemaking, including FDMS and regulations.gov at: https://www.fdms.gov/fdms/public/aboutus and https://www.regulations.gov/aboutProgram.

You can discover more about the Regulatory Information Service Center at: https://www.gsa.gov/about-us/organization/office-of-governmentwide-policy/office-of-acquisition-policy/governmentwide-acq-policy/regulatory-information-service-center and https://www.reginfo.gov/public/.

Written Comments

To assist GSA and OMB in planning for the modernization of the Electronic Rulemaking Management process, GSA and OMB are inviting interested parties to submit written comments.

Instructions: The referenced electronic docket in www.regulations.gov is a collection of documents related to this request for comment. Interested members of the public may comment on any individual document, whether or not addressed in one of the public meetings. The public may also comment on any matter relating to modernization of Electronic Rulemaking Management by commenting on the primary document for this notice, referenced in the docket as Notice-MR-2019-01.

From the home page of regulations.gov, search for “Docket No. 2019-0002; Sequence No. 35.” Identify the specific document within the docket that you would like to comment on, select the link “Comment Now,” and follow the instructions provided at the screen. For example, interested parties may wish to comment on the general information in the notice. Others may wish to comment on other more specific background documents that describe the Federal regulatory process and actions under consideration to improve and modernize the process.

For formal consideration, all comments must be submitted to regulations.gov at the referenced docket. Comments may be submitted up to April 30, 2020, on any topic related to Electronic Rulemaking Modernization.

GSA may publicly post all presentations submitted to the public meetings, all transcripts associated with the public meetings, and any comments received to the docket on regulations.gov without change. Read the regulations.gov notifications below regarding sharing of personally identifiable and/or business confidential information.

Individual documents posted on the docket will provide any details on the nature of input sought from the public on specific topics.

In general, GSA is seeking input on the business/mission needs of you or your organization as a participant or interested stakeholder in the rulemaking process. Specifics on proposed services or service improvements, including benefits and costs, would be helpful. Specific suggestions on service management, including performance measures and approaches for ongoing customer engagement would also be helpful.

Comments are also welcome on related technology services, including any specific recommendations for how technology can be applied to achieve specific business needs for regulatory management.

GSA also welcomes any references to existing research, processes, services, or technologies directly related to regulation management or related to functions that can be applied to regulation management.

Please note that comments on individual proposed rulemakings or other agency actions should be addressed to the specific agency and any dockets that they have created for that action.

The role of GSA is that of a shared service provider for supporting public participation and government efficiencies in the regulatory process.

Public Meetings

GSA will be conducting the following public meetings on the topics as indicated below. Attendance at these meetings is not required to provide comments. The public meetings are intended to supplement the background materials in the docket and provide additional insight into specific topics related to Electronic Regulation Management. Transcripts and any presentations from the meetings will be publicly posted to the docket within a reasonable period of time for others to view and provide comments.

Those in attendance at each meeting will have an opportunity to ask questions or make comments through the Town Hall forum, as time permits. However, the meeting forum is not a formal comment process.

The meetings and topics are as follows:

January 30, 2020, from 2:00 p.m. to 4:00 p.m., (ET). GSA is seeking presenters on topics that relate to:

• General challenges and opportunities for improving transparency and public participation in the development and review of regulations.

• The challenges relating to agency management of large volumes comments on proposed regulations.

• Public concern, risks, and solutions addressing instances where the identity of the entity submitting a comment has been falsified, known as the “fake commenter issue.”

• What technologies or policies could assist with the management of mass comments or fake commenters?

• Perspectives of the commenting community on the value of mass comments from single entities or interest groups.

• Perspectives of the commenting community on how to minimize the levels of organizations submitting comments on behalf of “fake commenters.”

• The value of mass comments relative to smaller numbers of potentially more substantive comments.

On March 25, 2020, from 2:00 p.m. to 4:00 p.m. (ET), GSA is seeking presenters on topics that relate to:

• General challenges and opportunities for analysis across multiple regulations. For example, a single regulated entity may be subject to multiple overlapping or inconsistent regulations.

• How desirable is it for the public to be able to have a line of sight across the entire life cycle of a rulemaking, from law, to regulation, to U.S. Code? What are the benefits?

• What other types of data analysis tools or reports would be useful for the public?

• What types of regulatory trends or information should be analyzed to benefit the regulatory process?

• What technologies or policies could assist with sharing of data or interoperability of regulatory management systems across the Federal government?

• What are the challenges and opportunities for third party service providers to use regulatory information alone or in combination with other data to deliver commercial services or analysis?

• What technologies or policies could assist with increasing public access to data for or through commercial applications?

In-Person Attendance

Interested parties are invited to attend the public meetings to be held at GSA Headquarters, located at 1800 F St. NW, Washington, DC 20006. While walk-ins will be allowed if there is seating capacity, the public is encouraged to pre-register prior to the scheduled date due to seating limitations. Pre-register for the January 30, 2020, meeting at https://regulationsmanagement.eventbrite.com. Pre-register for the March 25, 2020, meeting at https://regulationsmanagement2.eventbrite.com. Check for additional information regarding meeting logistics on regulations.gov, Docket No. 2019-0002; Sequence No. 35 as dates approach. Questions may be directed to eRulemaking@gsa.gov.

Registration check-in will begin at 1:00 p.m. (ET), and each meeting will start promptly at 2:00 p.m. (ET). Depending on levels of attendance for registered attendees, walk-in registration may or may not be available. Updates on whether registration has reached capacity will be posted on regulations.gov, Docket No. 2019-0002; Sequence No. 35. Walk-ins may be admitted if registered attendees do not show. Attendees must present government-issued photo identification.

Virtual Attendance

Interested parties may also attend virtually through GSA's virtual meeting platform, hosted by Adobe Connect. Further details on the virtual meeting will be made available via GSA Interact at https://interact.gsa.gov/group/commercial-platform-initiative.

Meeting Accommodations

The public meeting is physically accessible to people with disabilities. Sign language interpretation and auxiliary aids will be available at the meetings and online. Any specific requests for accommodations and auxiliary aids must be directed to eRulemaking@gsa.gov no later than 10 working days prior to the scheduled meetings.

Panel Presentations

GSA intends to conduct two town-hall/panel style discussions, with each event focused on the respective topics outlined above. Each meeting is expected to consist of two panels with three to five participants per panel. Each panel is expected to run 50 minutes, with 45 minutes of panel discussion and 10 minutes of audience questions.

Subject matter experts interested in serving on a panel at one or both public meetings must submit their proposals, to include a resume, an indication of the selected meeting or meetings, and a synopsis of their proposed topics and key points of no more than 250 words, no later than the following dates:

For the January 30, 2020, meeting, proposals are due midnight January 10, 2020.

For the March 25, 2020, meeting, proposals are due midnight March 2, 2020.

Submissions are to be emailed to eRulemaking@gsa.gov. GSA will select the panelists and will formally notify and coordinate with them in advance of the respective meeting. In selecting panelists, GSA will seek an array of perspectives, backgrounds, and experiences.

Dated: December 24, 2019.
Tobias Q. Schroeder,
Director, eRulemaking Program Management Office, Office of Regulation Management, Office of Government-wide Policy, General Services Administration.

[FR Doc. 2019-28242 Filed 12-30-19; 8:45 am]

BILLING CODE 6820-EP-P